SOCIAL SECURITY ADMINISTRATION

20 CFR Part 404

Revised Medical Criteria for Evaluating Hematological Disorders and Malignant Neoplastic Diseases

AGENCY: Social Security Administration.

ACTION: Proposed rule; partial withdrawal.

SUMMARY: We are withdrawing the rules we proposed for evaluating hematological disorders that were included in the Notice of Proposed Rulemaking (NPRM) published in the Federal Register on November 27, 2001 (66 FR 59306). In that NPRM, we proposed revisions to both the listings for hematological disorders and the listings for malignant neoplastic diseases. The public comments we received on the NPRM raised significant issues about the proposed listings for some of the hematological disorders, and we have decided to withdraw the proposed rules for hematological disorders while we obtain additional input to resolve these issues. We plan to publish a new NPRM for the hematological disorders listings at a later date. We are publishing separately in today's edition of the Federal Register final rules for evaluating malignant neoplastic diseases.

FOR FURTHER INFORMATION CONTACT: Martin Sussman, Regulations Officer, Office of Regulations, Social Security Administration, 100 Altmeyer Building, 6401 Security Boulevard, Baltimore, Maryland 21235-6401, (410) 965-1767 or TTY (410) 966-5609. For information on eligibility or filing for benefits, call our national toll-free number, 1-800-772-1213 or TTY 1-800-325-0778, or visit our Internet Web site, Social Security Online, at http://www.socialsecurity.gov/.

Dated: July 19, 2004.
Jo Anne B. Barnhart,
Commissioner of Social Security.

[FR Doc. 04-24898 Filed 11-12-04; 8:45 am]

BILLING CODE 4191-02-P